Presidential Determination No. 2011-04 of October 25, 2010

Presidential Determination With Respect To Section 404(c) of the Child Soldiers Prevention Act of 2008

Memorandum for the Secretary of State

By the authority vested in me as President by the Constitution and the laws of the United States of America, pursuant to section 404(c) of the Child Soldiers Prevention Act of 2008 (CSPA), title IV of the William Wilberforce Trafficking Victims Protection Reauthorization Act of 2008 (Public Law 110 457), I hereby determine that it is in the national interest of the United States to waive the application to Chad, the Democratic Republic of the Congo, Sudan, and Yemen of the prohibition in section 404(a) of the CSPA.

You are authorized and directed to submit this determination to the Congress, along with the accompanying memorandum of justification, and to publish it in the Federal Register.

THE WHITE HOUSE,

Washington, October 25, 2010

Billing code 4710-10-P

[FR Doc. 2010-30828

Filed 12-6-10; 8:45 am]

Billing code 4710-10-C